DEPARTMENT OF TRANSPORTATION

Federal Aviation Administration

14 CFR Part 71

[Docket No. FAA-2010-1030; Airspace Docket No. 10-AGL-18]

Amendment of Class E Airspace; La Porte, IN

AGENCY: Federal Aviation Administration (FAA), DOT.

ACTION: Final rule; correction.

SUMMARY: This action corrects errors in the geographic coordinates of a final rule published in the Federal Register February 1, 2011, that amends Class E airspace in the La Porte, IN area.

DATES: Effective date 0901 UTC May 5, 2011.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On February 1, 2011, the FAA published in the Federal Register a final rule amending Class E airspace in the La Porte, IN area (76 FR 5471), Docket No. FAA-2010-1030. Subsequent to publication, errors were discovered in the geographic coordinates for the La Porte Hospital Heliport point in space and the La Porte NDB. This action corrects these coordinates.

Class E airspace designations are published in paragraph 6005, of FAA Order 7400.9U dated August 18, 2010, and effective September 15, 2010, which is incorporated by reference in 14 CFR 71.1.

Correction to Final Rule

Accordingly, pursuant to the authority delegated to me, on page 5472, column one, in the airspace description, under La Porte NDB, remove “lat. 41°29′56″ N., long. 86°46′17″ W.”, and insert “lat. 41°29′56″ N., long. 86°46′16″ W.”.

On page 5472, column one, in the regulatory text, remove “* * * and within a 6-mile radius of the La Porte Hospital point in space at lat. 41°29′56″ N., long. 86°46′17″ W.” and insert “and within a 6-mile radius of the La Porte Hospital point in space at lat. 41°36′11″ N., long. 86°44′10″ W.”

Issued in Fort Worth, Texas, on March 4, 2011.
Walter L. Tweedy,
Acting Manager, Operations Support Group, ATO Central Service Center.

[FR Doc. 2011-5744 Filed 3-11-11; 8:45 am]

BILLING CODE 4910-13-P